DEPARTMENT OF EDUCATION

[Docket No.: ED-2024-SCC-0112]

Consolidated Annual Report (CAR) for the Carl D. Perkins Career and Technical Education Act of 2006; Correction

AGENCY: Department of Education (ED), Office of Career, Technical, and Adult Education (OCTAE).

ACTION: Correction notice.

SUMMARY: On September 11, 2024, the 60-day comment period published in the Federal Register (FRN Vol. 89, No. 176, pages 73638-9) for the proposed revised information collection, Consolidated Annual Report (CAR) for the Carl D. Perkins Career and Technical Education Act of 2006, with an end date of November 12, 2024. An error was made to the Docket No.: ED-2024-SCC-0112 posting with the current instrument version of the Perkins V Consolidated Annual Report. Approximately two weeks after the publication on September 23, 2024, ED corrected this error and posted the correct version of the instrument, Perkins V Consolidated Annual Report 1830-0569 revision to the record. As a result, the Department is extending the public comment period two weeks. The new end date of the comment period is November 26, 2024.

The PRA Coordinator, Strategic Collections and Clearance, Office of the Chief Data Officer, Office of Planning, Evaluation and Policy Development, hereby issues a correction notice as required by the Paperwork Reduction Act of 1995.

Dated: October 9, 2024.
Juliana Pearson,
PRA Coordinator, Strategic Collections and Clearance, Office of the Chief Data Officer, Office of Planning, Evaluation and Policy Development.

[FR Doc. 2024-23732 Filed 10-11-24; 8:45 am]

BILLING CODE 4000-01-P